DEPARTMENT OF AGRICULTURE

Virtual Public Listening Session; Natural Resources Conservation Service Programs and Western Water Quantity

AGENCY: Natural Resources Conservation Service, USDA.

ACTION: Notice.

SUMMARY: The Natural Resources Conservation Service (NRCS) will host a virtual, open, public listening session with remote participation only, for public input about water quantity in the west as it relates to existing NRCS programs. There will not be any in-person gathering for this listening session.

DATES:

Listening Session: The virtual public listening session will be held on Thursday, December 17, 2020 (also see below for Meeting Times section below).

Registration to comment date: To provide oral comments during the virtual listening session, you must register by 12:00 p.m. (noon) on Tuesday, December 18, 2020.

Registration to view date: You may register to view the listening session (but not provide oral comments), by 12:00 p.m. (noon) on Tuesday, December 15, 2020.

Written comment date: You may submit written comments by January 19, 2021.

ADDRESSES:

Registration: To register and receive information on how to attend the virtual listening session, please email your information to WesternWater@usda.gov—send your first and last name, organization, job title, City, State, email, and phone number.

Written comments: We invite you to submit written comments by any of the following methods:

• Mail: Deborah Miles, NRCS, ATTN: Western Water Quantity Listening Session, 1400 Independence Ave. SW, Room 5739, Mail Stop 1600, Washington, DC 20250, or

• Email: WesternWater@usda.gov.

FOR FURTHER INFORMATION CONTACT: For further information about providing written comments, joining the virtual listening session, or registering to speak at the virtual listening session, contact Leslie Deavers, telephone: 202-690-4616, or by email: Leslie.Deavers@usda.gov. Persons with disabilities who require alternative means for communication should contact the USDA Target Center at (202) 720-2600 (voice).

SUPPLEMENTARY INFORMATION:

Background

On November 5, 2020, NRCS announced it had selected 31 priority areas to receive $13 million in Environmental Quality Incentives Program (EQIP) funding as part of the WaterSMART Initiative (WSI). These investments will help producers on private working lands better conserve water resources in coordination with investments made by water suppliers.

The Natural Resources Conservation Service (NRCS) will host a virtual, open, public listening session with remote participation only, for public input about water quantity in the west as it relates to existing NRCS programs. (There will not be any in-person gathering for this listening session.) Stakeholders will have an opportunity to provide oral comments during the virtual public listening session.

Stakeholders must notify NRCS during registration of their wish to speak at the listening session. Stakeholders who do not notify NRCS during registration of their wish to speak will not have the opportunity to comment during the virtual listening session. Due to the anticipated high level of interest in the opportunity to make public comments and the limited time available to do so, NRCS will do its best to accommodate all persons who registered and requested to provide oral comments and will limit all speakers to 3 minutes. NRCS encourages persons and groups who have similar interests to consolidate their information for presentation by a single representative.

The stakeholders may provide feedback on any of the following questions:

For agricultural producers: What is your most pressing water related issue that may constrain or currently constrains your operations?

For non-producers and organizations: What is your most pressing water related issue that is needed by the agricultural community you assist?

For producers and organizations: What is your most pressing water related issue with which NRCS can help you through a technical or financial assistance program or through facilitating and engaging in a collaboration or partnership?

How can NRCS best coordinate with other Federal, State, and Local efforts to address water related issues?

How can State Technical Committees assist in addressing your most pressing water related issues?

What additional issues do you confront that NRCS should have awareness of?

NRCS expects to obtain input about the challenges, needed breakthroughs, and priorities through the virtual listening session and through submission of written comments. NRCS will treat stakeholder input equally. NRCS will then evaluate the challenges, needed breakthroughs, and priorities identified by this effort and will consider this information in its evaluation of existing programs and efforts to position these programs to achieve positive outcomes.

Meeting Agenda

The listening session will begin with brief opening remarks, with an overview of NRCS efforts to address water related issues in the west, from USDA and NRCS leadership.

Individual speakers providing oral comments will be limited to 3 minutes each. However, if all speakers can be accommodated within time for the listening session, individual speaking times may be adjusted at the written request of the stakeholder (use the For Further Information Contact information provided above in this notice). If, at 3 minutes each, the time allotted to registered speakers exceeds the available time for the listening session, a limited number of speakers will be selected on a first-come, first-serve basis.

If you are called upon during the listening session to provide oral comments and you or your representative are not available to speak, your opportunity to provide oral comments will pass to another speaker.

Meeting Times

The listening session will be held on Thursday, December 17, 2020, starting at 10:00 a.m. Eastern time. A mid-day break will be scheduled at approximately 12:00 p.m. (noon). The listening session will resume at 1:30 p.m. and continue to approximately 3:30 p.m.

NRCS may decide to extend the listening session to Friday, December 18, 2020. At the end of the listening session on Thursday, December 17, 2020, NRCS will announce whether an extension of the listening session will occur on Friday, December 18, 2020, or whether the listening session will conclude on Thursday, December 17, 2020. If the listening session is extended to Friday, December 18, 2020, the listening session will begin at 10:00 a.m. Eastern time and end at approximately 12:00 p.m. (noon). The listening session on Friday, December 18, 2020, may end earlier if there are no additional oral comments to be presented from anyone who registered to provide oral comments.

Oral and Written Comments

We request that speakers providing oral comments also provide a written copy of their comments. All written comments have the same due date, as specified above in this notice.

Registration Required To Attend

There is no registration fee for the public listening session, but pre-registration is mandatory for anyone who wishes to attend.

USDA Non-Discrimination Statement

No agency, officer, or employee of the USDA will, on the grounds of race, color, national origin, religion, sex, gender identity, sexual orientation, disability, age, marital status, family or parental status, income derived from a public assistance program, or political beliefs, exclude from participation in, deny the benefits of, or subject to discrimination any person in the United States under any program or activity conducted by USDA.

How To File a Complaint of Discrimination

To file a complaint of discrimination, complete the USDA Program Discrimination Complaint Form, which may be accessed online at: https://www.ocio.usda.gov/sites/default/files/docs/2012/Complain_combined_6_8_12.pdf or write a letter signed by you or your authorized representative.

You may also send your completed complaint form or letter to USDA by any of following methods: Mail: U.S. Department of Agriculture, Director, Office of Adjudication, 1400 Independence Avenue SW, Washington, DC 20250-9410; Fax: (202) 690-7442; or Email: program.intake@usda.gov.

Persons with disabilities who require alternative means for communication should contact USDA's TARGET Center at (202) 720-2600 (voice only).

Kevin D. Norton,
Acting Chief, Natural Resources Conservation Service.

[FR Doc. 2020-26525 Filed 12-2-20; 8:45 am]

BILLING CODE 3410-16-P